DEPARTMENT OF HOUSING AND URBAN DEVELOPMENT

Office of Federal Housing Enterprise Oversight

30-Day Notice of Submission of Information Collection for Approval from Office of Management and Budget

AGENCY: Office of Federal Housing Enterprise Oversight, HUD.

In accordance with the Paperwork Reduction Act of 1995, 44 U.S.C. 3506(c)(2)(A), the Office of Federal Housing Enterprise Oversight (OFHEO) hereby gives notice that it is seeking approval for the information collection titled “OFHEO Application for Employment” from the Office of Management and Budget (OMB). Notice of this proposed information collection was previously published in the Federal Register on March 23, 2007, Volume 72, Number 56, pages 13814-13815, allowing for a 60 day public comment period. No comments were received.

The purpose of this notice is to allow an additional 30 days for public comment until October 15, 2007. This process is conducted in accordance with 5 CFR 1320.10, and 5 CFR 1320.5(a)(1)(iv).

Written comments or suggestions regarding the information collection described in this notice must be directed to the Office of Information and Regulatory Affairs, Office of Management and Budget, Docket Library, Room 10102, 725 17th Street, NW., Washington, DC 20503, Attention: Desk Officer for the Office of Federal Housing Enterprise Oversight. Written comments and suggestions are solicited to:

(1) Evaluate whether the proposed collection of information is necessary for the proper performance of the functions of OFHEO, including whether the information will have practical utility;

(2) Evaluate the accuracy of OFHEO's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Title of collection: OFHEO Application for Employment.

(2) Summary of collection information: The Application for Employment is an on-line job application form. The application form may be made available in paper copy by request.

(3) Need and proposed use: Collection of the information is necessary to gather data concerning potential new hires for OFHEO and the information will be used to evaluate the qualifications of applicants for a variety of positions.

(4) Description of the likely respondents, including the estimated number of likely respondents and proposed frequency of response to the collection of information: Persons responding to the information collection are U.S. citizens applying for employment with OFHEO. The estimated number of respondents is approximately 3,100 per year.

(5) Estimate of the total annual reporting and record keeping burden that will result from the collection: The estimated number of respondents is approximately 3,100 per year. Each application takes approximately two hours to complete, for a total of 6,200 estimated annual burden hours.

For further information, or to obtain a copy of the proposed information collection, please contact Mark Laponsky, Executive Director, telephone (202) 414-3832 (not a toll-free number); Office of Federal Housing Enterprise Oversight, Fourth Floor, 1700 G Street, NW., Washington, DC 20552. The telephone number for the Telecommunications Device for the Deaf is (800) 877-8339.

Dated: August 27, 2007.
James B. Lockhart III,
Director.

[FR Doc. E7-18162 Filed 9-13-07; 8:45 am]

BILLING CODE 4220-01-P